DEPARTMENT OF JUSTICE

Notice of Lodging of Proposed Consent Decree Under the Clean Air Act

On July 11, 2024, the Department of Justice lodged a proposed consent decree with the United States District Court for the District of North Dakota in the lawsuit entitled United States v. Marathon Oil Company, Civil Action No. 1:24-cv-00136-DMT-CRH.

The United States filed this lawsuit under the Clean Air Act against Defendant Marathon Oil Company, alleging two types of violations at oil and gas production facilities on the Fort Berthold Indian Reservation in North Dakota: (1) violation of requirements to obtain preconstruction permits under the prevention of significant deterioration program and operating permits under the Title V permitting program; and (2) violation of design, operation and maintenance requirements applicable to oil and gas production facilities. The complaint seeks injunctive relief and civil penalties for the defendants' alleged violations. The consent decree requires the defendants to perform injunctive relief to address the alleged violations, perform additional projects to mitigate excess emissions, and pay a $64.5 million civil penalty.

The publication of this notice opens a period for public comment on the consent decree. Comments should be addressed to the Assistant Attorney General, Environment and Natural Resources Division, and should refer to United States v. Marathon Oil Company, D.J. Ref. No. 90-5-2-1-10388/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the consent decree may be examined and downloaded at this Justice Department website: https://www.justice.gov/enrd/consent-decrees. If you require assistance accessing the consent decree, you may request assistance by email or mail to the addresses provided above for submitting comments.

Laura Thoms,
Assistant Section Chief, Environmental Enforcement Section, Environment and Natural Resources Division.

[FR Doc. 2024-15615 Filed 7-15-24; 8:45 am]

BILLING CODE 4410-15-P